ENVIRONMENTAL PROTECTION AGENCY

40 CFR Part 62

[FRL-6717-3]

Approval and Promulgation of State Plans for Designated Facilities and Pollutants; Colorado, Montana, South Dakota, Utah, Wyoming; Control of Emissions From Existing Hospital/Medical/Infectious Waste Incinerators

AGENCY: Environmental Protection Agency (EPA).

ACTION: Direct final rule.

SUMMARY: We are approving the Clean Air Act section 111(d) Plans submitted by the Colorado Department of Public Health and the Environment on December 22, 1998 (with additional information submitted on October 4, 1999); the Montana Department of Environmental Quality on January 19, 1999; the South Dakota Department of Environment and Natural Resources on February 7, 2000, the Utah Department of Environmental Quality on March 2, 1999 (with additional information submitted on October 25, 1999); and the Wyoming Department of Environmental Quality on September 7, 1999 (with recodification of state regulations submitted on November 9, 1999), to implement and enforce the Emissions Guidelines (EG) for existing Hospital/Medical/Infectious Waste Incinerators (HMIWI). The EG require States to develop plans to reduce toxic air emissions from all HMIWIs. In addition, as an administrative matter, the heading of 40 CFR 62 Subpart G is being corrected to include the state name.

DATES: This direct final rule is effective on August 21, 2000, without further notice, unless we receive adverse comments by July 24, 2000. If we receive adverse comments, we will publish a timely withdrawal of the direct final rule in the Federal Register and inform the public that the rules will not take effect.

ADDRESSES: Send written comments to: Richard R. Long, EPA Region 8, Office of Air and Radiation (8P-AR), 999 18th Street, Suite 500, Denver, Colorado 80202.

You may inspect copies of the documents relevant to this action during normal business hours at the following location: EPA Region 8 offices, 999 18th Street, Suite 500, Denver, Colorado 80202. Please contact Meredith Bond at (303) 312-6438 before visiting the Region 8 office.

Copies of the State documents relevant to this action are available for public inspection at the respective State offices:

1. Colorado—Air Pollution Control Division, Department of Public Health and Environment, 4300 Cherry Creek Drive South, Denver, Colorado 80222-1530

2. Montana—Department of Environmental Quality, 1520 East 6th Avenue, P.O. Box 200901, Helena, Montana 59620-0901

3. South Dakota—Department of Environment and Natural Resources, Joe Foss Building, 523 East Capitol, Pierre, South Dakota 57501-3181

4. Utah—Division of Air Quality, Department of Environmental Quality, 150 North 1950 West, P.O. Box 144820, Salt Lake City, Utah 84114-4820

5. Wyoming—Department of Environmental Quality, Herschler Building, 122 West 25th Street, Cheyenne, Wyoming 82002

Interested persons wanting to examine these documents should make an appointment with the appropriate office at least 24 hours before the visiting day.

FOR FURTHER INFORMATION CONTACT: Meredith Bond, EPA Region 8, Air and Radiation Program, at the above address, telephone (303) 312-6438.

SUPPLEMENTARY INFORMATION:

Table of Contents

I. What action is being taken by EPA today?

II. Why do we need to regulate HMIWI emissions?

III. What is a State Plan?

IV. What does the Colorado State Plan contain?

A. Why is the Colorado HMIWI State Plan approvable?

B. Is my HMIWI subject to Colorado's regulations?

C. What steps do I need to take?

V. What does the Montana State Plan contain?

A. Why is the Montana HMIWI State Plan approvable?

B. Is my HMIWI subject to Montana's regulations?

C. What steps do I need to take?

VI. What does the South Dakota State Plan contain?

A. Why is the South Dakota HMIWI State Plan approvable?

B. Is my HMIWI subject to South Dakota's regulations?

C. What steps do I need to take?

VII. What does the Utah State Plan contain?

A. Why is the Utah HMIWI State Plan approvable?

B. Is my HMIWI subject to Utah's regulations?

C. What steps do I need to take?

VIII. What does the Wyoming State Plan contain?

A. Why is the Wyoming HMIWI State Plan approvable?

B. Is my HMIWI subject to Wyoming's regulations?

C. What steps do I need to take?

IX. Administrative Requirements

I. What Action Is Being Taken by EPA Today?

We are approving the Colorado, Montana, South Dakota, Utah, and Wyoming State Plans, as submitted on December 22, 1998 (with additional information submitted on October 4,1999); January 19, 1999; February 7, 2000; January 19, 1999 (with additional information submitted on October 25, 1999); and September 7, 1999 (with recodification of state regulations submitted on November 9, 1999), respectively. These plans were developed in accordance with section 111(d) of the CAA for the control of air emissions from HMIWIs. These plans do not apply to those HMIWIs located in Indian Country. When we developed our New Source Performance Standard (NSPS) for HMIWIs, we also developed Emissions Guidelines (EG) to control air emissions from older HMIWIs as we were required to do by section 129(a) of the Clean Air Act (42 U.S.C. 7429(a)). (See 62 FR 48348-48391, September 15, 1997). Colorado, Montana, South Dakota, Utah, and Wyoming, developed State Plans, as required by section 111(d) of the Clean Air Act (the Act) (42 U.S.C. 7411(d)), to adopt the EG into their body of regulations, and we are acting today to approve these State Plans as meeting all requirements of section 111(d) and 129 of the Act and EPA regulations governing the adoption and approval of State Plans for designated facilities (40 CFR part 60, subpart B).

In addition, as an administrative matter, the heading of 40 CFR part 62, subpart G is being corrected to include the state name, “Colorado.”

We are publishing this action without prior proposal because we view this as a noncontroversial amendment and anticipate no adverse comments. However, in a separate document in this Federal Register publication, we are proposing to approve the revision should significant, material, and adverse comments be filed. This action is effective August 21, 2000, unless by July 24, 2000, adverse or critical comments are received. If we receive such comments, this action will be withdrawn before the effective date by publishing a subsequent document that will withdraw the final action. All public comments received will be addressed in a subsequent final rule based on this action serving as a proposed rule. We will not institute a second comment period on this action. Any parties interested in commenting on this action should do so at this time. If no such comments are received, this action is effective August 21, 2000.

II. Why Do We Need To Regulate HMIWI Emissions?

The State Plans establish control requirements which reduce the following emissions from HMIWIs: particulate matter, sulfur dioxide, hydrogen chloride, nitrogen oxides, carbon monoxide, lead, cadmium, mercury, dioxin, and dibenzofurans.

These pollutants can cause adverse effects to the public health and the environment. Dioxin, lead, and mercury bioaccumulate through the food web. Serious developmental and adult effects in humans, primarily damage to the nervous system, have been associated with exposures to mercury. Exposure to dioxin and furans can cause skin disorders, cancer, and reproductive effects such as endometriosis. Dioxin and furans can also affect the immune system. Acid gases affect the respiratory tract, as well as contribute to the acid rain that damages lakes and harms forests and buildings. Exposure to particulate matter has been linked with adverse health effects, including aggravation of existing respiratory and cardiovascular disease and increased risk of premature death. Nitrogen oxide emissions contribute to the formation of ground level ozone, which is associated with a number of adverse health and environmental effects.

III. What Is a State Plan?

Section 111(d) of the Act requires that pollutants, other than criteria pollutants, controlled under the NSPS must also be controlled at older sources in the same source category. Once an NSPS is promulgated for a non-criteria pollutant, we then publish an EG applicable to the control of the same pollutant from existing (designated) facilities. States with designated facilities must then develop a State Plan to adopt the EG into their body of regulations. States must also include in this State Plan other elements, such as inventories, legal authority, and public participation documentation, to demonstrate the ability to implement and enforce it.

IV. What Does the Colorado State Plan Contain?

Colorado adopted the Federal NSPS and EG by reference into its State regulations at Regulation No. 6, part A. The Colorado State Plan contains:

1. A demonstration of the State's legal authority to implement the section 111(d) State Plan. The State did not, however, submit evidence of authority to regulate existing HMIWI in Indian Country as defined in 18 U.S.C. 1151. Therefore, EPA is not approving this State Plan as it relates to those sources.

2. State rules adopted into Regulation No. 6 as the mechanism for implementing the emission guidelines.

3. An inventory of twelve known designated facilities, along with estimates of their toxic air emissions;

4. Emission limits that are as protective as the EG;

5. A compliance date of 1 year after EPA approval of the State Plan.

6. Testing, monitoring, reporting and recordkeeping requirements for the designated facilities;

7. Records from the public hearing; and,

8. Provisions for progress reports to EPA.

A. Why Is the Colorado HMIWI State Plan Approvable?

EPA compared the Colorado rules (Regulation No. 6, part A, subpart Ce) against our HMIWI EG. EPA finds the Colorado rules to be at least as protective as the EG. The Colorado State Plan was reviewed for approval with respect to the following criteria: 40 CFR 60.23 through 60.26, Subpart B—Adoption and Submittal of State Plans for Designated Facilities; and, 40 CFR 60.30e through 60.39e, Subpart Ce—Emission Guidelines and Compliance Times for Hospital/Medical/Infectious Waste Incinerators. The Colorado State Plan satisfies the requirements for an approvable section 111(d) plan under subparts B and Ce of 40 CFR part 60. For these reasons, we are approving the Colorado HMIWI State Plan.

B. Is My HMIWI Subject To Colorado's Regulations?

The EG for existing HMIWIs affect any HMIWI built on or before June 20, 1996. If your facility meets this criterion and does not qualify for exemption under 40 CFR 60.32e(b)-(h) (Regulation No. 6, part A), you are subject to these regulations.

C. What Steps Do I Need To Take?

First, you will need to decide whether you will continue to operate your incinerator and comply with the requirements of the Colorado State Plan, or whether you will shut down your incinerator.

If you decide to continue operating your incinerator, you must meet the requirements listed in Regulation No. 6, part A, summarized as follows:

1. Determine the size of your incinerator by establishing its maximum design capacity.

2. You must meet the emission limits established for your incinerator's size category. See Table 1 of 40 CFR part 60, subpart Ce to determine the specific emission limits which apply to you. (40 CFR 60.33e; 62 FR 48382, September 15, 1997).

3. Determine if your incinerator qualifies for treatment as a small rural incinerator (40 CFR 60.33e(b), 60.36e, 60.37e(d), and 60.38e(b); 62 FR 48380, September 15, 1997).

4. You must meet a 10% opacity limit on your incinerator's discharge, averaged over a six-minute block (40 CFR 60.33e(c); 62 FR 48380, September 15, 1997).

5. You must have a qualified HMIWI operator available to supervise the operation of your incinerator. This operator must be trained and qualified through a State-approved program, or a training program that meets the requirements listed under 40 CFR 60.53c(c) (40 CFR 60.34e; 62 FR 48380). Your operator must be certified no later than one year after we approve Colorado's State Plan (40 CFR 60.39e(e); 62 FR 48382).

6. You must develop a waste management plan, and submit it to the Colorado Department of Public Health and Environment no later than one year after we approve this State Plan. Your waste management plan will describe the solid waste practices that your facility will undertake to reduce the amount of hospital, medical, and infectious waste that is disposed of in your incinerator. Your plan must be developed under guidance provided by the American Hospital Association publication, An Ounce of Prevention: Waste Reduction Strategies for Health Care Facilities, 1993. (40 CFR 60.35e; 62 FR 48380).

7. You must conduct an initial performance test to determine your incinerator's compliance with these emission limits. (40 CFR 60.37e and 60.8; 62 FR 48380).

8. You must install and maintain devices to monitor the parameters listed under Table 3 to subpart Ec (40 CFR 60.37e(c); 62 FR 48381).

9. You must document and maintain information concerning pollutant concentrations, opacity measurements, charge rates, and other operational data. This information must be maintained for a period of five years (40 CFR 60.38e; 62 FR 48381).

10. You must report to the Colorado Department of Public Health and Environment the results of your initial performance test, the values for your site-specific operating parameters, and your waste management plan. This information must be reported within 60 days following your initial performance test, and must be signed by the facilities manager (40 CFR 60.38e; 62 FR 48381).

11. You must submit a complete Title V operating permit application to the Colorado Department of Public Health and Environment no later than September 15, 2000.

12. In general, you must comply with all the requirements of this State Plan within one year after we approve it regardless of whether your facility has been identified in the plan inventory. The Colorado State Plan does not provide for petitions to extend the compliance deadlines (40 CFR 60.39e; 62 FR 48381).

If you decide to shut down your incinerator, you must do so within one year after we approve the State Plan in order to meet the requirements of Regulation No. 6, part A.

V. What Does the Montana State Plan Contain?

Montana adopted the Federal NSPS and EG by reference into its State regulations at Administrative Rules of Montana (ARM) 17.8.302, “Incorporation By Reference,” and ARM 17.8.340, “Standard of Performance For New Stationary Sources.” Montana State Plan contains:

1. A demonstration of the State's legal authority to implement the section 111(d) State Plan. The State did not, however, submit evidence of authority to regulate existing HMIWI in Indian Country as defined in 18 U.S.C. 1151. Therefore, EPA is not approving this State Plan as it relates to those sources.

2. State rules adopted into ARM 17.8.340 as the mechanism for implementing the emission guidelines.

3. An inventory of four known designated facilities, along with estimates of their toxic air emissions;

4. Emission limits that are as protective as the EG;

5. A compliance date of three years after EPA approval of the State Plan but not later than September 15, 2002.

6. Testing, monitoring, reporting and recordkeeping requirements for the designated facilities;

7. Records from the public hearing; and,

8. Provisions for progress reports to EPA.

A. Why Is the Montana HMIWI State Plan Approvable?

EPA compared the Montana rules (ARM 17.8.302 and ARM 17.8.340) against our HMIWI EG. EPA finds the Montana rules to be at least as protective as the EG. The Montana State Plan was reviewed for approval with respect to the following criteria: 40 CFR 60.23 through 60.26, Subpart B—Adoption and Submittal of State Plans for Designated Facilities; and, 40 CFR 60.30e through 60.39e, Subpart Ce—Emission Guidelines and Compliance Times for Hospital/Medical/Infectious Waste Incinerators. The Montana State Plan satisfies the requirements for an approvable section 111(d) plan under subparts B and Ce of 40 CFR part 60. For these reasons, we are approving the Montana HMIWI State Plan.

B. Is My HMIWI Subject to Montana's Regulations?

The EG for existing HMIWIs affect any HMIWI built on or before June 20, 1996. If your facility meets this criterion and does not qualify for exemption under 40 CFR 60.32e (b)-(h) (ARM 17.8.340), you are subject to these regulations.

C. What Steps Do I Need To Take?

First, you will need to decide whether you will continue to operate your incinerator and comply with the requirements of the Montana State Plan, or whether you will shut down your incinerator.

If you decide to continue operating your incinerator, the Montana State Plan provides for measurable and enforceable incremental steps of progress for designated facilities planning to install the necessary air pollution control equipment allowing compliance on or before the date 3 years after EPA approval of the State Plan but not later than September 15, 2002. Further, Montana incorporated by reference the requirements contained in 40 CFR part 60, subpart Ce which contains additional compliance time requirements. You must meet the requirements listed in ARM 17.8.340, summarized as follows:

1. Determine the size of your incinerator by establishing its maximum design capacity.

2. Determine if your incinerator qualifies for treatment as a small rural incinerator (40 CFR 60.33e(b), 60.36e, 60.37e(d), and 60.38e(b); 62 FR 48380, September 15, 1997).

3. You must meet the emission limits established for your incinerator's size category. See Table 1 of 40 CFR part 60, subpart Ce to determine the specific emission limits which apply to you. (40 CFR 60.33e; 62 FR 48382, September 15, 1997).

4. You must meet a 10% opacity limit on your incinerator's discharge, averaged over a six-minute block (40 CFR 60.33e(c); 62 FR 48380, September 15, 1997).

5. You must have a qualified HMIWI operator available to supervise the operation of your incinerator. This operator must be trained and qualified through a State-approved program, or a training program that meets the requirements listed under 40 CFR 60.53c(c)(40 CFR 60.34e; 62 FR 48380). Your operator must be certified no later than one year after we approve the Montana State Plan (40 CFR 60.39e(e); 62 FR 48382).

6. You must develop a waste management plan, and submit it to the Montana Department of Environmental Quality no later than one year after we approve this State Plan. Your waste management plan will describe the solid waste practices that your facility will undertake to reduce the amount of hospital, medical, and infectious waste that is disposed of in your incinerator. Your plan must be developed under guidance provided by the American Hospital Association publication, An Ounce of Prevention: Waste Reduction Strategies for Health Care Facilities, 1993. (40 CFR 60.35e; 62 FR 48380).

7. You must submit a final Control Plan to the department for review and final approval within 15 months after the date of our approval of the State Plan. Your Control Plan will explain how your HMIWI will meet the State Plan requirements.

8. You must award contracts for any necessary control systems/process changes within 21 months after the date of our approval of the State Plan.

9. You must initiate on-site construction or installation of any necessary air pollution control devices, and initiate any necessary process changes, within 24 months after the date of our approval of the State Plan.

10. You must complete on-site construction or installation of any necessary air pollution control devices, and initiate any necessary process changes, within 24 months after the date of our approval of the State Plan.

11. You must conduct an initial performance test to determine your incinerator's compliance with these emission limits. (40 CFR 60.37e and 60.8; 62 FR 48380).

12. You must install and maintain devices to monitor the parameters listed under Table 3 to subpart Ec (40 CFR 60.37e(c); 62 FR 48381).

13. You must document and maintain information concerning pollutant concentrations, opacity measurements, charge rates, and other operational data. This information must be maintained for a period of five years (40 CFR 60.38e; 62 FR 48381).

14. You must report to the Montana Department of Environmental Quality the results of your initial performance test, the values for your site-specific operating parameters, and your waste management plan. This information must be reported within 60 days following your initial performance test, and must be signed by the facilities manager (40 CFR 60.38e; 62 FR 48381).

15. You must submit a complete Title V operating permit application to the Montana Department of Environmental Quality no later than September 15, 2000.

16. In general, you must comply with all the requirements of this State Plan within 36 months after we approve it or by September 15, 2002. (40 CFR 60.39e; 62 FR 48381).

If you decide to shut down your incinerator, you must submit a “final control plan” that notifies the department that you will be shutting down your incinerator within 15 months after the date of our approval of the State Plan.

VI. What Does the South Dakota State Plan Contain?

South Dakota adopted the Federal NSPS and EG by reference into its State regulations at Administrative Rules of South Dakota (ARSD) 74:36:07, “New Source Performance Standards.” The South Dakota State Plan contains:

1. A demonstration of the State's legal authority to implement the section 111(d) State Plan. The State did not, however, submit evidence of authority to regulate existing HMIWI in Indian Country as defined in 18 U.S.C. 1151. Therefore, EPA is not approving this State Plan as it relates to those sources.

2. State rules adopted into ARSD 74:26:07:06.01 as the mechanism for implementing the emission guidelines.

3. An inventory of one known designated facility, along with estimates of its toxic air emissions;

4. Emission limits that are as protective as the EG;

5. A compliance date of 3 years after EPA approval of the State Plan but not later than September 15, 2002.

6. Testing, monitoring, reporting and recordkeeping requirements for the designated facilities;

7. Records from the public hearing; and,

8. Provisions for progress reports to EPA.

A. Why Is the South Dakota HMIWI State Plan Approvable?

EPA compared the South Dakota rules (ARSD 74:36:07:06.01) against our HMIWI EG. EPA finds the South Dakota rules to be at least as protective as the EG. The South Dakota State Plan was reviewed for approval with respect to the following criteria: 40 CFR 60.23 through 60.26, Subpart B—Adoption and Submittal of State Plans for Designated Facilities; and, 40 CFR 60.30e through 60.39e, Subpart Ce—Emission Guidelines and Compliance Times for Hospital/Medical/Infectious Waste Incinerators. The South Dakota State Plan satisfies the requirements for an approvable section 111(d) plan under subparts B and Ce of 40 CFR part 60. For these reasons, we are approving the South Dakota HMIWI State Plan.

B. Is My HMIWI subject to South Dakota's Regulations?

The EG for existing HMIWIs affect any HMIWI built on or before June 20, 1996. If your facility meets this criterion and does not qualify for exemption under 40 CFR 60.32e (b)-(h) (ARSD 74:36:07:06.01), you are subject to these regulations.

C. What Steps Do I Need To Take?

First, you will need to decide whether you will continue to operate your incinerator and comply with the requirements of the South Dakota State Plan, or whether you will shut down your incinerator.

If you decide to continue operating your incinerator, South Dakota's State Plan provides for measurable and enforceable incremental steps of progress for designated facilities planning to install the necessary air pollution control equipment allowing compliance on or before the date 3 years after EPA approval of the State Plan but not later than September 15, 2002. Further, South Dakota incorporated by reference the requirements contained in 40 CFR part 60, subpart Ce which contains additional compliance time requirements. You must meet the requirements listed in ARSD 74:36:07:06.01, summarized as follows:

1. Determine the size of your incinerator by establishing its maximum design capacity.

2. Determine if your incinerator qualifies for treatment as a small rural incinerator (40 CFR 60.33e(b), 60.36e, 60.37e(d), and 60.38e(b); 62 FR 48380, September 15, 1997).

3. You must meet the emission limits established for your incinerator's size category. See Table 1 of 40 CFR part 60, subpart Ce to determine the specific emission limits which apply to you. (40 CFR 60.33e; 62 FR 48382, September 15, 1997).

4. You must meet a 10% opacity limit on your incinerator's discharge, averaged over a six-minute block (40 CFR 60.33e(c); 62 FR 48380, September 15, 1997).

5. You must have a qualified HMIWI operator available to supervise the operation of your incinerator. This operator must be trained and qualified through a State-approved program, or a training program that meets the requirements listed under 40 CFR 60.53c(c)(40 CFR 60.34e; 62 FR 48380). Your operator must be certified no later than one year after we approve the South Dakota State Plan (40 CFR 60.39e(e); 62 FR 48382).

6. You must develop a waste management plan, and submit it to the South Dakota Department of Environment and Natural Resources no later than one year after we approve this State Plan. Your waste management plan will describe the solid waste practices that your facility will undertake to reduce the amount of hospital, medical, and infectious waste that is disposed of in your incinerator. Your plan must be developed under guidance provided by the American Hospital Association publication, An Ounce of Prevention: Waste Reduction Strategies for Health Care Facilities, 1993. (40 CFR 60.35e; 62 FR 48380).

7. You must submit a final Control Plan to the department for review and final approval within 6 months after the date of our approval of the State Plan. Your Control Plan will explain how your HMIWI will meet the State Plan requirements.

8. You must submit a part 70 operating permit application and design drawings of the air pollution control device to the department within one year after the date of our approval of the State Plan.

9. You must submit a copy of the purchase order or other documentation indicating an order has been placed for the major components of the air pollution control device within 15 months after the date of our approval of the State Plan.

10. You must begin initiation of site preparation for installation of the air pollution control device within 2 years after the date of our approval of the State Plan.

11. You must complete installation of the air pollution control device within 30 months after the date of our approval of this State Plan.

12. You must conduct an initial performance test to determine your incinerator's compliance with these emission limits (40 CFR 60.37e and 60.8; 62 FR 48380). This test must be completed within 33 months after the date of our approval of this State Plan.

13. You must install and maintain devices to monitor the parameters listed under Table 3 to subpart Ec (40 CFR 60.37e(c); 62 FR 48381).

14. You must document and maintain information concerning pollutant concentrations, opacity measurements, charge rates, and other operational data. This information must be maintained for a period of five years (40 CFR 60.38e; 62 FR 48381).

15. You must report to the South Dakota Department of Environment and Natural Resources the results of your initial performance test, the values for your site-specific operating parameters, and your waste management plan. This information must be reported within 60 days following your initial performance test, and must be signed by the facilities manager (40 CFR 60.38e; 62 FR 48381).

16. In general, you must comply with all the requirements of this State Plan within 36 months after we approve it or by September 15, 2002 (40 CFR 60.39e; 62 FR 48381).

If you decide to shut down your incinerator, you must notify the department within six months of the date of our approval of the State Plan. Your written notification must inform the department of when the unit will be shutdown. You shutdown date shall not be later than one year after the date of our approval of the State Plan.

VII. What Does the Utah State Plan Contain?

Utah adopted the Federal NSPS and EG requirements into its State regulations at Utah Administrative Code (UAC) R307-220-3 and R307-222. The Utah State Plan contains:

1. A demonstration of the State's legal authority to implement the section 111(d) State Plan. The State did not, however, submit evidence of authority to regulate existing HMIWI in Indian Country as defined in 18 U.S.C. 1151. Therefore, EPA is not approving this State Plan as it relates to those sources.

2. State rules adopted into R307-222 as the mechanism for implementing the emission guidelines.

3. An inventory of fifteen known designated facilities, along with estimates of their toxic air emissions;

4. Emission limits that are as protective as the EG;

5. A compliance date of 1 year after EPA approval of the State Plan.

6. Provisions allowing designated facilities to petition the State for extensions, specifying incremental steps of progress towards compliance for facilities planning to install the necessary air pollution control equipment.

7. A Requirement that all designated facilities, whether or not they have been identified in the Plan, are in compliance no later than September 15, 2002.

8. Testing, monitoring, reporting and recordkeeping requirements for the designated facilities;

9. Records from the public hearing; and,

10. Provisions for progress reports to EPA.

A. Why Is the Utah HMIWI State Plan Approvable?

EPA compared the Utah rules (UAC R307-220-3 and R307-222) against our HMIWI EG. EPA finds the Utah rules to be at least as protective as the EG. The Utah State Plan was reviewed for approval with respect to the following criteria: 40 CFR 60.23 through 60.26, Subpart B—Adoption and Submittal of State Plans for Designated Facilities; and, 40 CFR 60.30e through 60.39e, Subpart Ce—Emission Guidelines and Compliance Times for Hospital/Medical/Infectious Waste Incinerators. The Utah State Plan satisfies the requirements for an approvable section 111(d) plan under subparts B and Ce of 40 CFR part 60. For these reasons, we are approving the Utah HMIWI State Plan.

B. Is My HMIWI Subject To Utah's Regulations?

The EG for existing HMIWIs affect any HMIWI built on or before June 20, 1996. If your facility meets this criterion and does not qualify for exemption under 40 CFR 60.32e (b)-(h) (UAC R307-222-1.(2)), you are subject to these regulations.

C. What Steps Do I Need To Take?

First, you will need to decide whether you will continue to operate your incinerator and comply with the requirements of the Utah State Plan, or whether you will shut down your incinerator.

If you decide to continue operating your incinerator, Utah's State Plan requires that you comply with all requirements within one year after EPA approval of the State Plan, unless you petition the executive secretary of the Utah Department of Environmental Quality for a later compliance date. Utah also incorporated by reference the requirements contained in 40 CFR part 60, subpart Ce which contains additional compliance time requirements. You must meet the requirements listed in R307-220-3 and R307-222, summarized as follows:

1. Determine the size of your incinerator by establishing its maximum design capacity.

2. Determine if your incinerator qualifies for treatment as a small rural incinerator (40 CFR 60.33e(b), 60.36e, 60.37e(d), and 60.38e(b); 62 FR 48380, September 15, 1997).

3. You must meet the emission limits established for your incinerator's size category. See Table 1 of 40 CFR part 60, subpart Ce to determine the specific emission limits which apply to you. The emission limits apply at all times, except during startup, shutdown, or malfunctions, provided that no waste has been charged during these events. (40 CFR 60.33e; 62 FR 48382, September 15, 1997).

4. You must meet a 10% opacity limit on your incinerator's discharge, averaged over a six-minute block (40 CFR 60.33e(c); 62 FR 48380, September 15, 1997).

5. You must have a qualified HMIWI operator available to supervise the operation of your incinerator. This operator must be trained and qualified through a State-approved program, or a training program that meets the requirements listed under 40 CFR 60.53c(c) (40 CFR 60.34e; 62 FR 48380). Your operator must be certified no later than one year after we approve this Utah State Plan (40 CFR 60.39e(e); 62 FR 48382).

6. You must develop a waste management plan, and submit it to the Utah Department of Environmental Quality no later than one year after we approve this State Plan. Your waste management plan will describe the solid waste practices that your facility will undertake to reduce the amount of hospital, medical, and infectious waste that is disposed of in your incinerator. Your plan must be developed under guidance provided by the American Hospital Association publication, An Ounce of Prevention: Waste Reduction Strategies for Health Care Facilities, 1993. (40 CFR 60.35e; 62 FR 48380).

7. You must conduct an initial performance test to determine your incinerator's compliance with these emission limits. (40 CFR 60.37e and 60.8; 62 FR 48380).

8. You must install and maintain devices to monitor the parameters listed under Table 3 to subpart Ec (40 CFR 60.37e(c); 62 FR 48381).

9. You must document and maintain information concerning pollutant concentrations, opacity measurements, charge rates, and other operational data. This information must be maintained for a period of five years (40 CFR 60.38e; 62 FR 48381).

10. You must report to the Utah Department of Environmental Quality the results of your initial performance test, the values for your site-specific operating parameters, and your waste management plan. This information must be reported within 60 days following your initial performance test, and must be signed by the facilities manager (40 CFR 60.38e; 62 FR 48381).

11. You must submit a complete Title V operating permit application to the Utah Department of Environmental Quality no later than September 15, 2000.

12. In general, you must comply with all the requirements of this State Plan within one year after we approve it; however, there are provisions to extend your compliance date (40 CFR 60.39e; 62 FR 48381). The criteria for requesting an extension of your compliance date, and the milestones that you would be required to meet, are explained in R307-222-3 and the Utah State Plan. You may petition the Executive Secretary of the Utah Department of Environmental Quality to extend your compliance date to a date as late as three years after we approve this Utah State Plan, but no later than September 15, 2002.

If you decide to shut down your incinerator, you must do so within one year of our approval of this State Plan, unless you petition the Executive Secretary for a later date in accordance with the provisions of the State Plan and R307-222-3.

VIII. What Does the Wyoming State Plan Contain?

Wyoming adopted the Federal NSPS and EG requirements into the Wyoming Air Quality Standards and Regulations (WAQSR), Chapter 4, section 5. The Wyoming State Plan contains:

1. A demonstration of the State's legal authority to implement the section 111(d) State Plan. The State did not, however, submit evidence of authority to regulate existing HMIWI in Indian Country as defined in 18 U.S.C. 1151. Therefore, EPA is not approving this State Plan as it relates to those sources.

2. State rules adopted into WAQSR Chapter 4, section 5, as the mechanism for implementing the emission guidelines.

3. An inventory of thirty-four known designated facilities, along with estimates of their toxic air emissions;

4. Emission limits that are as protective as the EG;

5. A compliance date of three years after EPA approval of the State Plan but not later than September 15, 2002.

6. Testing, monitoring, reporting and recordkeeping requirements for the designated facilities;

7. Records from the public hearing; and,

8. Provisions for progress reports to EPA.

A. Why Is the Wyoming HMIWI State Plan Approvable?

EPA compared the Wyoming rules (WAQSR Chapter 4, section 5) against our HMIWI EG. EPA finds the Wyoming rules to be at least as protective as the EG. The Wyoming State Plan was reviewed for approval with respect to the following criteria: 40 CFR 60.23 through 60.26, Subpart B—Adoption and Submittal of State Plans for Designated Facilities; and, 40 CFR 60.30e through 60.39e, Subpart Ce—Emission Guidelines and Compliance Times for Hospital/Medical/Infectious Waste Incinerators. The Wyoming State Plan satisfies the requirements for an approvable section 111(d) plan under subparts B and Ce of 40 CFR part 60. For these reasons, we are approving the Wyoming HMIWI State Plan.

B. Is My HMIWI Subject to Wyoming's Regulations?

The EG for existing HMIWIs affect any HMIWI built on or before June 20, 1996. If your facility meets this criterion and does not qualify for exemption under 40 CFR 60.32e (b)-(h) (WAQSR Ch. 4, sec. 5(b)(ii)-(ix)), you are subject to these regulations.

C. What Steps Do I Need To Take?

First, you will need to decide whether you will continue to operate your incinerator and comply with the requirements of the Wyoming State Plan, or whether you will shut down your incinerator.

If you decide to continue operating your incinerator, Wyoming's State Plan requires that you comply with all requirements within one year after EPA approval of the State Plan, unless you petition the Administrator of the Wyoming Air Quality Division for a later compliance date. Wyoming also incorporated the requirements contained in 40 CFR part 60, subpart Ce which contains additional compliance time requirements. You must meet the requirements listed in WAQS&R Ch. 4, sec. 5, summarized as follows:

1. Determine the size of your incinerator by establishing its maximum design capacity.

2. Determine if your incinerator qualifies for treatment as a small rural incinerator (40 CFR 60.33e(b), 60.36e, 60.37e(d), and 60.38e(b); 62 FR 48380, September 15, 1997).

3. You must meet the emission limits established for your incinerator's size category. See Table 1 of 40 CFR part 60, subpart Ce to determine the specific emission limits which apply to you. (40 CFR 60.33e; 62 FR 48382, September 15, 1997).

4. You must meet a 10% opacity limit on your incinerator's discharge, averaged over a six-minute block (40 CFR 60.33e(c); 62 FR 48380, September 15, 1997).

5. You must have a qualified HMIWI operator available to supervise the operation of your incinerator. This operator must be trained and qualified through a State-approved program, or a training program that meets the requirements listed under 40 CFR 60.53c(c) (40 CFR 60.34e; 62 FR 48380). Your operator must be certified no later than one year after we approve the Wyoming State Plan (40 CFR 60.39e(e); 62 FR 48382).

6. You must develop a waste management plan, and submit it to the Wyoming Department of Environmental Quality no later than one year after we approve this State Plan. Your waste management plan will describe the solid waste practices that your facility will undertake to reduce the amount of hospital, medical, and infectious waste that is disposed of in your incinerator. Your plan must be developed under guidance provided by the American Hospital Association publication, An Ounce of Prevention: Waste Reduction Strategies for Health Care Facilities, 1993 (40 CFR 60.35e; 62 FR 48380).

7. You must conduct an initial performance test to determine your incinerator's compliance with these emission limits (40 CFR 60.37e and 60.8; 62 FR 48380).

8. You must install and maintain devices to monitor the parameters listed under Table 3 to subpart Ec (40 CFR 60.37e(c); 62 FR 48381).

9. You must document and maintain information concerning pollutant concentrations, opacity measurements, charge rates, and other operational data. This information must be maintained for a period of five years (40 CFR 60.38e; 62 FR 48381).

10. You must report to the Wyoming Department of Environmental Quality the results of your initial performance test, the values for your site-specific operating parameters, and your waste management plan. This information must be reported within 60 days following your initial performance test, and must be signed by the facilities manager (40 CFR 60.38e; 62 FR 48381).

11. You must submit a complete Title V operating permit application to the Wyoming Department of Environmental Quality no later than September 15, 2000.

12. In general, you must comply with all the requirements of this State Plan within one year after we approve it; however, there are provisions to extend your compliance date (40 CFR 60.39e; 62 FR 48381). The criteria for requesting an extension of your compliance date, and the milestones that you would be required to meet, are explained in WAQSR Ch. 4, sec. 5(i) and the Wyoming State Plan. You may petition the Administrator of the Wyoming Air Quality Division to extend your compliance date to a date as late as three years after we approve this Wyoming State Plan, but no later than September 15, 2002.

If you decide to shut down your incinerator, you must do so within one year of our approval of this State Plan, or by September 15, 2000, whichever occurs first (WAQSR Ch. 4, sec. 5(i)(i)).

IX. Administrative Requirements

A. Executive Order 12866

Under Executive Order 12866 (58 FR 51735, October 4, 1993), this action is not a “significant regulatory action” and therefore is not subject to review by the Office of Management and Budget.

B. Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it is not an economically significant action under Executive Order 12866.

C. Executive Order 13084

Under Executive Order 13084 (63 FR 27655, May 10, 1998), EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule implements requirements specifically set forth by the Congress in sections 111 and 129 of the Clean Air Act, as amended in 1990, without the exercise of any discretion by EPA. This action does not significantly or uniquely affect the communities of Indian tribal governments. This action does not involve or impose any requirements that affect Indian Tribes. Accordingly, the requirements of section 3(b) of Executive Order 13084 do not apply to this rule.

D. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

E. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

Pursuant to section 605(b) of the RFA, I certify that this rule will not have a significant economic impact on a substantial number of small entities. This Federal action approves pre-existing requirements under State law and imposes no new requirements on any entity affected by this rule, including small entities. Therefore, these amendments will not have a significant impact on a substantial number of small entities.

F. Unfunded Mandates

Under section 202 of the Unfunded Mandates Reform Act of 1995 (“Unfunded Mandates Act”), signed into law on March 22, 1995, EPA must prepare a budgetary impact statement to accompany any proposed or final rule that includes a Federal mandate that may result in estimated costs to State, local, or tribal governments in the aggregate; or to private sector, of $100 million or more. Under Section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of Congress and to the Comptroller General of the United States. EPA will submit a report containing this rule and other required information to the U.S. Senate, the U.S. House of Representatives, and the Comptroller General of the United States prior to publication of the rule in the Federal Register.

H. National Technology Transfer and Advancement Act

In reviewing 111(d)/129 plan submissions, EPA's role is to approve state choices, provided that they meet the criteria of the Clean Air Act. In this context, in the absence of a prior existing requirement for the State to use voluntary consensus standards (VCS), EPA has no authority to disapprove a 111(d)/129 plan submission for failure to use VCS. It would thus be inconsistent with applicable law for EPA, when it reviews a 111(d)/129 plan submission, to use VCS in place of a 111(d)/129 plan submission that otherwise satisfies the provisions of the Clean Air Act. Thus, the requirements of section 12(d) of the National Technology Transfer and Advancement Act of 1995 (15 U.S.C. 272 note) do not apply.

I. Petitions for Judicial Review

Under section 307(b)(1) of the Clean Air Act, petitions for judicial review of this action must be filed in the United States Court of Appeals for the appropriate circuit by August 21, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 62

Environmental protection, Administrative practice and procedure, Air pollution control, Hospital/medical/infectious waste incineration, Intergovernmental relations, Reporting and recordkeeping requirements.

Dated: June 2, 2000.
Rebecca W. Hanmer,
Acting Regional Administrator, Region VIII.

40 CFR part 62 is amended as follows:

PART 62—[AMENDED]

1. The authority citation for part 62 continues to read as follows:

Authority: 42 U.S.C. 7401-7671.

Subpart G—Colorado

2. Add a new undesignated center heading and §§ 62.1360, 62.1361, and 62.1362 to subpart G to read as follows:

Air Emissions From Hospital/Medical/Infectious Waste Incinerators

§ 62.1360 Identification of plan.

Section 111(d) Plan for Hospital/Medical/Infectious Waste Incinerators and the associated State regulation in part A of Colorado Regulation No. 6, submitted by the State on December 22, 1998 and October 4, 1999.

§ 62.1361 Identification of sources.

The plan applies to all existing hospital/medical/infectious waste incinerators for which construction was commenced on or before June 20, 1996, as described in 40 CFR part 60, subpart Ce.

§ 62.1362 Effective date.

The effective date for the portion of the plan applicable to existing hospital/medical/infectious waste incinerators is August 21, 2000.

* * * * *

Subpart BB—Montana

3. Add a new undesignated center heading and §§ 62.6610, 62.6611, and 62.6612 to subpart BB to read as follows:

Air Emissions From Hospital/Medical/Infectious Waste Incinerators

§ 62.6610 Identification of plan.

Section 111(d) Plan for Hospital/Medical/Infectious Waste Incinerators and the associated State regulation in sections 17.8.302(1)(k) and 17.8.340 of the Administrative Rules of Montana, submitted by the State on January 19, 1999.

§ 62.6611 Identification of sources.

The plan applies to all existing hospital/medical/infectious waste incinerators for which construction was commenced on or before June 20, 1996, as described in 40 CFR part 60, subpart Ce.

§ 62.6612 Effective date.

The effective date for the portion of the plan applicable to existing hospital/medical/infectious waste incinerators is August 21, 2000.

* * * * *

Subpart QQ—South Dakota

4. Add a new undesignated center heading and §§ 62.10360, 62.10361, and 62.10362 to subpart QQ to read as follows:

Air Emissions From Hospital/Medical/Infectious Waste Incinerators

§ 62.10360 Identification of plan.

Section 111(d) Plan for Hospital/Medical/Infectious Waste Incinerators and the associated State regulation, chapter 74:36:07 section 74:36:07:06.01 of the Administrative Rules of South Dakota, submitted by the State on February 7, 2000.

§ 62.10361 Identification of sources.

The plan applies to all existing hospital/medical/infectious waste incinerators for which construction was commenced on or before June 20, 1996, as described in 40 CFR part 60, Subpart Ce.

§ 62.10362 Effective date.

The effective date for the portion of the plan applicable to existing hospital/medical/infectious waste incinerators is August 21, 2000.

Subpart TT—Utah

5. Add a new undesignated center heading and §§ 62.11120, 62.11121, and 62.11122 to subpart TT to read as follows:

Air Emissions From Hospital/Medical/Infectious Waste Incinerators

§ 62.11120 Identification of plan.

Section 111(d) Plan for Hospital/Medical/Infectious Waste Incinerators and the associated State regulation R307-220-3 and R307-222 of the Utah Air Conservation Regulations, submitted by the State on March 2, 1999 and October 25, 1999.

§ 62.11121 Identification of sources.

The plan applies to all existing hospital/medical/infectious waste incinerators for which construction was commenced on or before June 20, 1996, as described in 40 CFR part 60, subpart Ce.

§ 62.11122 Effective date.

The effective date for the portion of the plan applicable to existing hospital/medical/infectious waste incinerators is August 21, 2000.

* * * * *

Subpart ZZ—Wyoming

6. Add a new undesignated center heading and §§ 62.12610, 62.12611, and 62.12612 to subpart ZZ to read as follows:

Air Emissions From Hospital/Medical/Infectious Waste Incinerators

§ 62.12610 Identification of plan.

Section 111(d) Plan for Hospital/Medical/Infectious Waste Incinerators and the associated State regulation, Chapter 4, section 5, of the Wyoming Air Quality Standards and Regulations, submitted by the State on September 7, 1999 and November 9, 1999.

§ 62.12611 Identification of sources.

The plan applies to all existing hospital/medical/infectious waste incinerators for which construction was commenced on or before June 20, 1996, as described in 40 CFR part 60, subpart Ce.

§ 62.12612 Effective date.

The effective date for the portion of the plan applicable to existing hospital/medical/infectious waste incinerators is August 21, 2000.

[FR Doc. 00-15292 Filed 6-21-00; 8:45 am]

BILLING CODE 6560-50-P